DEPARTMENT OF TRANSPORTATION

Federal Aviation Administration

14 CFR Part 73

[Airspace Docket No. 99-ANM-16]

RIN 2120-AA66

Establishment of Restricted Area, ID

AGENCY: Federal Aviation Administration (FAA), DOT.

ACTION: Final rule.

SUMMARY: This action establishes Restricted Area 3203D (R-3203D) at Orchard, ID. The Idaho Army National Guard has requested that this restricted area be established to support its annual training requirements. This restricted area will be established adjacent to the existing R-3203A and be used for a maximum of three weeks annually.

EFFECTIVE DATE: 0901 UTC, March 22, 2001.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

History

On April 25, 2000, the FAA proposed to establish R-3203D, at Orchard, ID, to provide essential ground maneuvering space to meet the Idaho Army National Guard annual training requirements (65 FR 24141). Interested parties were invited to participate in this rulemaking proceeding by submitting written comments on the proposal to the FAA. No comments were received objecting to the proposal. Except for editorial changes, and minor corrections to the Southern boundary of R-3203D, aligning it with the boundary of the existing R-3202A, this amendment is the same as that proposed in the Notice.

The coordinates for this airspace docket are based on North American Datum 83. Section 73.32 of part 73 of the Federal Aviation Regulations was republished in FAA Order 7400.8H dated October 2, 2000.

The Rule

This amendment to 14 CFR part 73 (part 73) establishes R-3203D, Orchard, ID, adjacent to the existing R-3203A to assist the Idaho Army National Guard annual training. The restricted area will be effective for a period of time not exceeding three weeks annually. Expansion in the number of gun batteries assigned to field artillery units, along with requirements that each assigned battery accomplish several moves per day to different firing points, has created the need to expand the available restricted airspace, for a period of time each year, to provide for more effective annual training tests. All artillery firing will be directed into existing impact areas located approximately in the center of R-3203A. This restricted area is needed to provide protected airspace to contain the projectiles during flight between the surface firing point and entry into the existing restricted area.

The restricted area will be utilized for a period of time not exceeding three weeks per year by the Idaho Army National Guard Field Artillery and will be released to the FAA for public use during periods when it is not required for military training.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

Environmental Review

The FAA has reviewed the environmental analysis contained within the Army National Guard Supplemental Environmental Assessment for the fielding of the Paladin Weapon System at Orchard Training Area. We find it provides the requisite update of the environmental conditions presented in the Army National Guard Environmental Impact Statement (ARNG EIS) dated August 1988 entitled “Orchard Training Areas; Birds of Prey Advisory Committee; Endangered Species Survey.”

List of Subjects in 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.32 [Amended]

2. Section 73.32 is amended as follows:

* * * * *

R-3203D Boise, ID, Orchard Training Area [New]

Boundaries. Beginning at lat. 43°14′00″ N., long. 116°16′33″ W.; at lat. 43°17′51″ N., long. 116°16′25″ W.; at lat. 43°19′02″ N., long. 116°14′45″ W.; at lat. 43°19′02″ N., long. 116°06′36″ W.; at lat. 43°15′58″ N., long. 116°01′12″ W.; at lat. 43°15′00″ N., long. 116°01′03″ W.; at lat. 43°17′00″ N., long. 116°05′03″ W.; at lat. 43°17′00″ N., long. 116°12′03″ W.; to the point of beginning.

Designated altitudes. Surface to and including 22,000 feet MSL.

Times of use. As scheduled by NOTAM 24 hours in advance not to exceed three weeks annually.

Controlling agency. FAA Boise ATCT.

Using agency. Commanding General Idaho Army National Guard.

* * * * *

Issued in Washington, DC, on December 12, 2000.
Reginald C. Matthews,
Manager, Airspace and Rules Division.

[FR Doc. 00-32176 Filed 12-15-00; 8:45 am]

BILLING CODE 4910-13-P